NUCLEAR REGULATORY COMMISSION

[Docket Nos. 50-456 and 50-457; NRC-2013-0169]

Exelon Generating Company, LLC; Braidwood Station, Units 1 and 2

AGENCY: Nuclear Regulatory Commission.

ACTION: Supplemental environmental impact statement; issuance.

SUMMARY: The U.S. Nuclear Regulatory Commission (NRC) is issuing a final plant-specific supplement, Supplement 55, to NUREG-1437, “Generic Environmental Impact Statement for License Renewal of Nuclear Plants” (GEIS), regarding the renewal of Exelon Generating Company, LLC (Exelon) operating licenses NPF-72 and NPF-77 for Braidwood Station, Units 1 and 2 (Braidwood), respectively, for an additional 20 years of operation.

DATES: The final Supplement 55 to the GEIS is available as of November 19, 2015.

ADDRESSES: Please refer to Docket ID NRC-2013-0169 when contacting the NRC about the availability of information regarding this document. You may obtain publicly-available information related to this document using any of the following methods:

• Federal Rulemaking Web site: Go to http://www.regulations.gov and search for Docket ID NRC-2013-0169. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The final Supplement 55 to the GEIS is in ADAMS under Accession No. ML15314A814.

• NRC's PDR: You may examine and purchase copies of public documents at the NRC's PDR, Room O1-F21, One White Flint North, 11555 Rockville Pike, Rockville, Maryland 20852.

FOR FURTHER INFORMATION CONTACT: Richard Baum, Office of Nuclear Reactor Regulation, U.S. Nuclear Regulatory Commission, Washington, DC 20555-0001; telephone: 301-415-0018; email: Richard.Baum@nrc.gov.

SUPPLEMENTARY INFORMATION: In accordance with § 51.118 of title 10 of the Code of Federal Regulations, the NRC is making available final Supplement 55 to the GEIS regarding the renewal of Exelon operating licenses NPF-72 and NPF-77 for an additional 20 years of operation for Braidwood. Draft Supplement 55 to the GEIS was noticed by the NRC in the Federal Register on March 25, 2015 (80 FR 15827), and noticed by the Environmental Protection Agency on March 27, 2015 (80 FR 16384). The public comment period on draft Supplement 55 to the GEIS ended on May 12, 2015, and the comments received are addressed in final Supplement 55 to the GEIS. Final Supplement 55 to the GEIS is available as indicated in the ADDRESSES section of this document.

As discussed in Chapter 5 of the final Supplement 55 to the GEIS, the NRC determined that the adverse environmental impacts of license renewal for Braidwood are not so great that preserving the option of license renewal for energy-planning decision makers would be unreasonable. This recommendation is based on: (1) The analysis and findings in the GEIS; (2) information provided in the environmental report and other documents submitted by Exelon; (3) consultation with Federal, State, local, and Tribal agencies; (4) the NRC staff's independent environmental review; and (5) consideration of public comments received during the scoping process and on the draft Supplement 55 to the GEIS.

Dated at Rockville, Maryland, this 13 day of November 2015.
For the Nuclear Regulatory Commission.
James G. Danna,
Chief, Projects Branch 2, Division of License Renewal, Office of Nuclear Reactor Regulation.

[FR Doc. 2015-29538 Filed 11-18-15; 8:45 am]

BILLING CODE 7590-01-P